DEPARTMENT OF HOUSING AND URBAN DEVELOPMENT

[Docket No. FR-4712-N-02]

Eligibility of Firefighters and Emergency Medical Technicians To Participate in the Officer Next Door Sales Program

AGENCY: Office of the Assistant Secretary for Housing-Federal Housing Commissioner, HUD.

ACTION: Notice.

SUMMARY: This notice announces the eligibility of firefighters and emergency medical technicians to purchase HUD-acquired homes located in HUD-designated revitalization areas at a discount, in accordance with HUD's regulations for the Officer Next Door (OND) Sales Program. Inclusion in the OND Sales Program is designed to help more firefighters and emergency responders become homeowners, and will further the goals of the OND Sales Program to accelerate the revitalization of America's cities by promoting the integration of dedicated role models and mentors into the community. Elsewhere in today's Federal Register, HUD has published a proposed rule that would establish the Good Neighbor Next Door (GNND) Sales Program. The GNND Sales Program would build upon and replace the existing OND Sales Program and Teacher Next Door Sales Program, combining them into one broader program. The proposed rule, when made final, will codify the eligibility of law enforcement officers, teachers, firefighters and emergency medical technicians to participate in the new Good Neighbor Next Door Sales Program.

FOR FURTHER INFORMATION CONTACT: Joseph McCloskey, Director, Office of Single Family Asset Management, Department of Housing and Urban Development, 451 Seventh Street, SW., Room 9172, Washington, DC 20410-8000; telephone (202) 708-1672 (this is not a toll-free number). Hearing- or speech-impaired individuals may access this number through TTY by calling the toll-free Federal Information Relay Service at (800) 877-8339.

SUPPLEMENTARY INFORMATION:

I. Background

The Officer Next Door (OND) Sales Program enables eligible law enforcement officers to assist in the revitalization of economically distressed neighborhoods. Under the OND Sales Program, full-time law enforcement officers may purchase HUD-acquired homes located in HUD-designated revitalization areas at a 50 percent discount from list prices. The home must be the law enforcement officer's sole residence during a prescribed owner-occupancy term. HUD's regulations for the OND Sales Program are located in subpart F of 24 CFR part 291 (entitled “Disposition of HUD-Acquired Single Family Properties”). The success of the OND Sales Program led to the development of the Teacher Next Door (TND) Sales Program, which enables teachers to purchase HUD-acquired homes located in revitalization areas at a discount from list prices. HUD announced the creation of the TND Sales Program through a Federal Register notice published on December 7, 1999 (64 FR 68370).

II. This Notice

This notice builds upon the success of both the OND and TND Sales Programs by expanding eligibility to include firefighters and emergency medical technicians. As with law enforcement officers and teachers, the daily responsibilities of firefighters and emergency medical technicians reflect a high level of commitment to public service and represent a nexus to the needs of the communities they serve. The expansion of eligibility will help more firefighters and emergency medical technicians become homeowners, and will further the goals of the OND and TND Sales Programs to accelerate the revitalization of America's cities by promoting the integration of dedicated role models and mentors into the community.

Firefighters and emergency medical technicians will be able to participate under, and subject to, the regulations for the OND Sales Program codified at 24 CFR part 291, subpart F. To qualify as an eligible firefighter or emergency medical technician, an individual must be employed as a full-time firefighter or emergency medical technician by a fire department or emergency medical services responder unit of the federal government, a state, a unit of general local government, or an Indian tribal government serving the area where the home is located. The employment requirement must be satisfied both at the time the firefighter or emergency medical technician submits a bid to purchase the home, and at the time of closing on the purchase of the home.

Elsewhere in today's Federal Register, HUD has published a proposed rule for public comment that would establish regulations for a new Good Neighbor Next Door (GNND) Sales Program. The GNND Sales Program would replace and build upon the success of the OND and TND Sales Programs, and include as eligible participants, law enforcement officers, teachers, firefighters, and emergency medical technicians. Interested persons should refer to the proposed rule for additional information on the GNND Sales Program. The public comment period for the proposed rule closes on November 7, 2005. HUD will consider all public comments in the development of the final rule.

Dated: August 29, 2005.
Brian D. Montgomery,
Assistant Secretary for Housing-Federal Housing Commissioner.

[FR Doc. 05-17674 Filed 9-7-05; 8:45 am]

BILLING CODE 4210-27-P